DEPARTMENT OF COMMERCE

Foreign-Trade Zones Board

[Docket 77-2011]

Foreign-Trade Zone 89—Las Vegas, NV; Application for Reorganization and Expansion Under Alternative Site Framework

An application has been submitted to the Foreign-Trade Zones (FTZ) Board (the Board) by the Nevada Development Authority, grantee of FTZ 89, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on November 29, 2011.

FTZ 89 was approved by the Board on November 7, 1983 (Board Order 227, 48 FR 51665, 11/10/1983) and expanded on December 4, 1989 (Board Order 452,54 FR 50787, 12/11/1989), March 11, 1994 (Board Order 688, 59 FR 12893, 3/18/1994) and June 22, 2010 (Board Order 1688, 75 FR 38778, 07/06/2010).

The current zone project includes the following sites: Site 1: (23 acres)—Las Vegas Convention Center, Las Vegas; Site 3: (Two parcels, 317 acres and 120,000 sq. ft.)—within the Hughes Airport Center Industrial Park, adjacent to McCarran International Airport, Las Vegas; Site 4: (37 acres)—North Las Vegas Business Center, North Las Vegas; Site 5: (516 acres)—AMPAC Development Company—Gibson Business Park, Las Vegas; Site 6: (160 acres)—Las Vegas International Air Cargo Center at McCarran International Airport, Las Vegas; Site 7: (10 acres)—Union Park, 875 Grand Central Parkway, Las Vegas; Site 8: (0.34 acres)—Nevada International Trade Company, 6650 Spencer Street, Suite 110 (expires 01/31/2012), Las Vegas; and, Site 9: (365 acres)—City View Business Park, Interstate 15 and State Road 604, North Las Vegas.

The grantee's proposed service area under the ASF would be all of Clark County, Nevada. If approved, the grantee would be able to-serve sites throughout the service area based on companies' needs for FTZ designation. The proposed service area is within and adjacent to the Las Vegas U.S. Customs and Border Protection port of entry.

The applicant is requesting authority to reorganize its existing zone project to include existing sites 1, 3, 5, 6, 7 and 9 as “magnet” sites and existing Site 8 as a “usage-driven” site. The applicant is also requesting approval of the following initial “usage-driven” sites: Proposed Site 10 (9.93 acres)—Levi Straus & Company, 7600 Eastgate Road, Henderson; and, Proposed Site 11 (60.55 acres)—Levi Straus & Company, 501 Executive Airport Drive, Henderson. In addition, the applicant is requesting to remove Site 4 due to changed circumstances, as well as reduce the amount of acreage at Site 5.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is February 7, 2012. Rebuttal comments in response to material submitted during the foregoing period may be submitted during the subsequent 15-day period to February 22, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Christopher Kemp at Christopher.Kemp@trade.gov or (202) 482-0862.

Dated: November 29, 2011.
Andrew McGilvray,
Executive Secretary.

[FR Doc. 2011-31306 Filed 12-8-11; 8:45 am]

BILLING CODE 3510-DS-M